ENVIRONMENTAL PROTECTION AGENCY

[FRL-12773-01-R9]

Clean Air Act Operating Permit Program; Order on Petition for Objection to State Operating Permit for Morenci Mine

AGENCY: Environmental Protection Agency (EPA).

ACTION: Notice of final order on petition.

SUMMARY: The Environmental Protection Agency (EPA) Administrator signed an order dated April 30, 2025, denying a petition dated December 6, 2024, from the Center for Biological Diversity. The Petition requested that the EPA object to a Clean Air Act (CAA) title V operating permit issued by the Arizona Department of Environmental Quality (ADEQ) to the Freeport-McMoRan Inc. Copper Ore Mining and Processing Operations (“Morenci Mine”) in Greenlee County, Arizona.

FOR FURTHER INFORMATION CONTACT: Catherine Valladolid, EPA Region 9, (415) 947-4103, valladolid.catherine@epa.gov. The final Order and Petition are available electronically at: https://www.epa.gov/title-v-operating-permits/title-v-petition-database.

SUPPLEMENTARY INFORMATION: The EPA received a petition from the Center for Biological Diversity dated December 6, 2024, requesting that the EPA object to the issuance of operating permit no. 99245, issued by ADEQ to Morenci Mine in Greenlee County, Arizona. On April 30, 2025, the EPA Administrator issued an order denying the petition. The order explains the basis for the EPA's decision.

Sections 307(b) and 505(b)(2) of the CAA provide that a petitioner may request judicial review of those portions of an order that deny issues in a petition. Any petition for review shall be filed in the United States Court of Appeals for the appropriate circuit no later than August 22, 2025.

Dated: June 2, 2025.
Matthew Lakin,
Director, Air and Radiation Division, Region IX.

[FR Doc. 2025-11412 Filed 6-20-25; 8:45 am]

BILLING CODE 6560-50-P